SECURITIES AND EXCHANGE COMMISSION

Proposed Collection; Comment Request

Upon Written Request, Copies Available from: Securities and Exchange Commission, Office of Investor Education and Assistance, Washington, DC 20549-0213.

Extension: Form N-8F, SEC File No. 270-136, OMB Control No. 3235-0157.

Correction

In notice document E7-14563 beginning on page 41531 in the issue of July 30, 2007, make the following correction:

On page 41531, in the third column, the document heading and the next three lines are corrected to read as set forth above.

[FR Doc. Z7-14563 Filed 8-14-07; 8:45 am]

BILLING CODE 1505-01-D

SECURITIES AND EXCHANGE COMMISSION

Proposed Collection; Comment Request

Upon Written Request, Copies Available from: US Securities and Exchange Commission, Office of Investor Education and Assistance, Washington DC 20549-0213.

Extension: Rule 301 and Forms ATS and ATS-R, SEC File No. 270-451, OMB No. 3235-0509.

Correction

In notice document E7-14845 appearing on page 42139 in the issue of Wednesday August 1, 2007, make the following correction:

On page 42139, in the first column, the document heading and the next seven lines corrected to read as set forth above.

[FR Doc. Z7-14845 Filed 8-14-07; 8:45 am]

BILLING CODE 1505-01-D

SECURITIES AND EXCHANGE COMMISSION

Proposed Collection; Comment Request

Upon Written Request, Copies Available From: US Securities and Exchange Commission, Office of Investor Education and Assistance, Washington, DC 20549-0213.

Extension: Rule 13e-3 (Schedule 13E-3), OMB Control No. 3235-0007, SEC File No. 270-1.

Correction

In notice document E7-15181 beginning on page 43670 in the issue of Monday, August 6, 2007, make the following correction:

On page 43670, in the second column, the document heading is corrected to read as set forth above.

[FR Doc. Z7-15181 Filed 8-14-07; 8:45 am]

BILLING CODE 1505-01-D

DEPARTMENT OF TRANSPORTATIION

Federal Aviation Administration

14 CFR Part 39

[Docket No. FAA-2007-28853; Directorate Identifier 2006-NM-218-AD]

RIN 2120-AA64

Airworthiness Directives; Airbus Model A300-600 Series Airplanes

Correction

In proposed rule document 07-3774 beginning on page 43199 in the issue of Friday, August 3, 2007, make the following corrections:

§ 39.13 [Corrected]

(1) On page 43201, in the third column, in § 39.13(f)(3)(iii), in the ninth line, “5710022-02-2” should read “571022-02-2”.

(2) On the same page, in the same column, in the same section, in the tenth line “A300-60” should read “A300-600”.

(3) On page 43202, in the first column, in § 39.13(h), in the first line “MCAIEASA” should read “MCA IEASA ”

[FR Doc. C7-3774 Filed 8-14-07; 8:45 am]

BILLING CODE 1505-01-D